DEPARTMENT OF LABOR

Employment and Training Administration

[NAFTA-4426]

Southern Oregon Log Scaling and Grading Bureau, Roseburg, Oregon; Notice of Negative Determination Regarding Application for Reconsideration

By application dated March 2, 2001, a petitioner and the Oregon AFL-CIO (petitioners) request administrative reconsideration of the Department's negative determination regarding eligibility to apply for North American Free Trade Agreement-Transitional Adjustment Assistance (NAFTA-TAA), applicable to workers and former workers of the subject firm. The denial notice applicable to workers of Southern Oregon Log Scaling and Grading Bureau, Roseburg, Oregon, was signed on February 9, 2001, and was published in the Federal Register on March 2, 2001 (66 FR 13087).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petitioners explain that the firm was created about 50 years ago by the timber industry, in cooperation with Federal and State authorities. The Board of Directors of the subject firm has historically been made up of persons representing the timber industry, some of which are the mill owners. The petitioners view is that the subject firm is related by control (to NAFTA-TAA certified worker groups) by its creation, daily operation, and by the make-up of the Board of Directors and their connection to the timber industry in specific and in general.

The NAFTA-TAA petition for workers of the subject firm was denied because the workers provided a service and did not produce an article within the meaning of in paragraph (a)(1) of Section 250 of the Trade Act, as amended. The workers at Southern Oregon Log Scaling and Grading Bureau, in Roseburg, Oregon, measure and grade (appraise) logs for their customers.

A Board of Directors cannot be considered a parent firm, a firm related to the subject firm by ownership, or a firm related by control.

Conclusion

After review of the application and investigative findings, I conclude that there has been no error or misinterpretation of the law or of the facts which would justify reconsideration of the Department of Labor's prior decision. Accordingly, the application is denied.

Signed at Washington, DC this 23rd day of May 2001.
Edward A. Tomchick,
Director, Division of Trade Adjustment Assistance.

[FR Doc. 01-14418 Filed 6-7-01; 8:45 am]

BILLING CODE 4510-30-M